OFFICE OF PERSONNEL MANAGEMENT

[Docket ID: OPM-2023-0025]

Submission for Review: 3206-0032, Self-Certification of Full-Time School Attendance for the School Year, RI 25-14 and Information and Instructions for Completing the Self-Certification of Full-Time School Attendance for the School Year, RI 25-14A

AGENCY: Office of Personnel Management.

ACTION: 60-Day notice and request for comments.

SUMMARY: The Office of Personnel Management (OPM), Retirement Services, offers the general public and other Federal agencies the opportunity to comment on the review of the following expiring information collection request (ICR) without change: Self-Certification of Full-Time School Attendance for the School Year, RI 25-14, and Information and Instructions for Completing the Self-Certification of Full-Time School Attendance for the School Year, RI 25-14A.

DATES: Comments are encouraged and will be accepted until October 16, 2023.

ADDRESSES: You may submit comments, identified by docket number and title, by the following method:

• Federal Rulemaking Portal: https://www.regulations.gov. Follow the instructions for submitting comments.

All submissions received must include the agency name and docket number for this document. The general policy for comments and other submissions from members of the public is to make these submissions available for public viewing at https://www.regulations.gov as they are received without change, including any personal identifiers or contact information.

FOR FURTHER INFORMATION CONTACT: A copy of this ICR with applicable supporting documentation, may be obtained by contacting the Retirement Services Publications Team, Office of Personnel Management, 1900 E Street NW, Room 3316-L, Washington, DC 20415, Attention: Cyrus S. Benson, or sent by email to Cyrus.Benson@opm.gov or faxed to (202) 606-0910 or reached via telephone at (202) 936-0401.

SUPPLEMENTARY INFORMATION:

As required by the Paperwork Reduction Act of 1995 (Pub. L. 104-13, 44 U.S.C. chapter 35), as amended by the Clinger-Cohen Act (Pub. L. 104-106), OPM is soliciting comments for this collection (OMB No. 3206-0032). The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

RI 25-14 is used to survey survivor annuitants who are between the ages of 18 and 22 to determine if they meet the requirements of 5 U.S.C. 8341(a)(4)(C) and 8441 to receive benefits as a student. RI 25-14A provides instructions for completing the Self-Certification of Full-Time School Attendance For The School Year survey form.

Analysis

Agency: Retirement Services, Office of Personnel Management.

Title: Self-Certification of Full-Time School Attendance For The School Year and Information and Instructions for Completing the Self-Certification of Full-Time School Attendance For The School Year.

OMB Number: 3206-0032.

Frequency: On occasion.

Affected Public: Individuals or households.

Number of Respondents: 14,000.

Estimated Time per Respondent: 12 minutes.

Total Burden Hours: 2,800.

Office of Personnel Management.
Kayyonne Marston,
Federal Register Liaison.

[FR Doc. 2023-17732 Filed 8-16-23; 8:45 am]

BILLING CODE 6325-38-P